INTERNATIONAL TRADE COMMISSION

[USITC SE-00-049]

Sunshine Act Meeting Notice

AGENCY HOLDING THE MEETING: United States International Trade Commission.

TIME AND DATE: November 13, 2000 at 2:00 p.m.

PLACE: Room 101, 500 E Street SW., Washington, DC 20436, Telephone: (202) 205-2000.

STATUS: Open to the public.

MATTERS TO BE CONSIDERED: 1. Agenda for future meeting: None.

2. Minutes.

3. Ratification List.

4. Inv. Nos. 701-TA-402 and 731-TA-892-893 (Preliminary)(Honey from Argentina and China)—briefing and vote. (The Commission is currently scheduled to transmit its determination to the Secretary of Commerce on November 13, 2000; Commissioners' opinions are currently scheduled to be transmitted to the Secretary of Commerce on November 20, 2000.)

5. Outstanding action jackets:

(1.) Document No. ID-00-019: Approval of final report in Inv. No. 332-411 (Electric Power Services: Recent Reforms in Selected Foreign Markets).

In accordance with Commission policy, subject matter listed above, not disposed of at the scheduled meeting, may be carried over to the agenda of the following meeting.

Issued: November 1 , 2000.
By order of the Commission.
Donna R. Koehnke,
Secretary.

[FR Doc. 00-28369 Filed 11-1-00; 1:43 pm]

BILLING CODE 7020-02-U